DEPARTMENT OF DEFENSE

Department of the Army, Corps of Engineers

Notice of Availability of the Draft Environmental Impact Statement for Millennium Bulk Terminals—Longview, LLC Shipping Terminal, in the Columbia River, Near Longview, Cowlitz County, Washington

AGENCY: Department of the Army, U.S. Army Corps of Engineers, DoD.

ACTION: Notice of availability.

SUMMARY: The U.S. Army Corps of Engineers (Corps) Seattle District has prepared a Draft Environmental Impact Statement (EIS) to analyze the direct, indirect, and cumulative effects of an action proposed by Millennium Bulk Terminals—Longview, LLC (MBTL) involving the Columbia River and adjacent waters of the United States. The Proposed Action is to construct and operate a shipping terminal to export up to 44 million metric tons of coal per year. Construction of the terminal and support facilities would result in the permanent loss of 29.3 acres of waters of the United States, consisting of 24.1 acres of wetlands and 5.2 acres of ditches and other waters. The proposed work requires Department of the Army authorization from the Corps under Section 10 of the Rivers and Harbors Act and Section 404 of the Clean Water Act. The permit applicant is Millennium Bulk Terminals—Longview, LLC.

This Draft EIS was prepared in accordance with the National Environmental Policy Act (NEPA) of 1969, as amended, and Corps regulations for implementing NEPA (33 Code of Federal Regulations [CFR] Part 230 and Part 325, Appendix B). The Corps' Seattle District, is the lead federal agency, with the Environmental Protection Agency and U.S. Coast Guard participating as cooperating agencies. Information contained in this EIS will support a future decision regarding issuance of a Department of the Army permit under Sections 10 and 404. This EIS also provides information for state, local, and other Federal agencies having jurisdictional responsibility for the affected resources.

DATES: Written comments on the Draft EIS will be accepted thru November 29, 2016. Oral and/or written comments may also be presented at Public Hearings to be held Monday, October 24, 2016 at the Cowlitz County Regional Conference Center, 1900 7th Avenue, Longview, Washington and on Tuesday, October 25, 2016 at the Clark County Event Center, 17402 NE Delfel Road, Ridgefield, Washington. Each hearing is scheduled for 1:00 p.m. to 9:00 p.m., with a one-hour break between 4:00 p.m. and 5:00 p.m.

ADDRESSES: Send written comments regarding the Proposed Action and Draft EIS to Ms. Danette L. Guy, U.S. Army Corps of Engineers, Millennium Bulk Terminals—Longview NEPA EIS, c/o ICF International, 710 Second Avenue, Suite 550, Seattle, WA 98104. Comments may also be submitted online at http://www.millenniumbulkeiswa.gov/submit-comments.html.

FOR FURTHER INFORMATION CONTACT: Ms. Danette L. Guy, Project Manager, U.S. Army Corps of Engineers, Seattle District, Regulatory Branch by email at NWS.MBTL@usace.army.mil or by telephone at (206) 316-3048.

SUPPLEMENTARY INFORMATION: The purpose of the Draft EIS is to provide decision makers and the public information pertaining to the Proposed Action, including alternatives, environmental impacts, and mitigation measures that could reduce impacts of the action.

An electronic copy of the Draft EIS may be obtained by visiting the project Web site at http://www.millenniumbulkeiswa.gov/.

Dated: September 30, 2016.
John G. Buck,
Colonel, Corps of Engineers, District Engineer, Seattle District.

[FR Doc. 2016-24312 Filed 10-6-16; 8:45 am]

BILLING CODE 3720-58-P